DEPARTMENT OF AGRICULTURE

Natural Resources Conservation Service

Mill Creek Watershed, Richland County, WI

AGENCY: Natural Resources Conservation Service.

ACTION: Notice of a finding of no significant impact.

SUMMARY: Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Mill Creek Watershed, Richland County, Wisconsin.

FOR FURTHER INFORMATION CONTACT: Tom Krapf, Water Resources Staff Leader, Natural Resources Conservation Service, 6515 Watts Road, Suite 200, Madison, Wisconsin, 53719. Telephone (608) 276-8732.

SUPPLEMENTARY INFORMATION: The environmental assessment of this federally assisted action indicates that the project will not cause significant local, regional, or national impacts on the environment. As a result of these findings, Don Baloun, Acting State Conservationist, has determined that the preparation and review of an environmental impact statement are not needed for this project.

The project purpose is flood prevention. The planned works of improvement include the floodproofing of two dwellings which are in the hydraulic shadow of Structure Number 10, and the enactment of a county floodplain zoning ordinance which restricts future development within the hydraulic shadow of Structure Number 10. Sediment will be removed from the pond behind the dam. The dam plunge pool will be brought up to current NRCS Standards.The Notice of a Finding of No Significant Impact (FONSI) has been forwarded to the Environmental Protection Agency and to various federal, state, and local agencies and interested parties. A limited number of copies of the FONSI are available to fill single copy requests at the above address. Basic data developed during the environmental assessment are on file and may be reviewed by contacting Thomas Krapf.

No administrative action on implementation of the proposal will be taken until 30 days after the date of this publication in the Federal Register.

Dated: December 9, 2002.
Don Baloun,
Acting State Conservationist.

Finding of No Significant Impact for Mill Creek Watershed-Supplement Richland County, Wisconsin

Introduction

The Mill Creek Watershed is a federally assisted action authorized for planning under Pub. L. 83-566, the Watershed Protection and Flood Prevention Act. An environmental assessment was undertaken in conjunction with the development of the watershed plan-supplement. This assessment was conducted in consultation with local, state, and federal agencies as well as with interested organizations and individuals. Data developed during the assessment are available for public review at the following location: U.S. Department of Agriculture, Natural Resources Conservation Service (NRCS), 6515 Watts Road, Suite 200, Madison, WI 53719.

Recommended Action

Two dwellings in the hydraulic shadow of Mill Creek 10 will be floodproofed. This action also includes rebuilding the dam plunge pool, removing accumulated sediment to restore the capacity back to 50 years, and repairing the low stage inlet pipes back to their original condition. A floodplain zoning ordinance will be enacted to prevent any future development in the floodplain.

Effect of Recommended Action

The recommended plan would extend the life of Mill Creek Watershed Structure 10 by 50 years. It would allow the dam to return to its original class “a” low hazard rating. The floodplain zoning ordinance prohibiting future development in the hydraulic shadow (breach inundation area) of the dam.

The proposed action will have no effect on wetlands.

An initial management summary of cultural resources as they relate to the planned components has been developed. The survey concludes that no significant adverse impacts will occur to cultural resources in the watershed should the plan be implemented. The NRCS has consulted with the State Historic Preservation Office (SHPO) on the effects that planned measures will have on significant cultural resources.

Significant cultural resources identified during implementation will be avoided or otherwise preserved in place to the fullest practical extent. If significant cultural resources cannot be avoided or preserved, pertinent information will be recovered before construction. If there is a significant cultural resource discovery during construction, appropriate notice will be made by NRCS to the State Historic Preservation Officer and the National Park Service (NPS). Consultation and coordination have been and will continue to be used to ensure the provisions of section 106 of Pub. L. 89-665 have been met and to include provisions of Pub. L. 89-523, as amended by Pub. L. 93-291. NRCS will take action as prescribed in NRCS GM 420, part 401, to protect or recover any significant cultural resources discovered during construction.

No threatened or endangered species in the watershed will be affected by the project.

No wilderness areas are within the watershed.

Little impact will be made on scenic values. Project Sponsors will be required to enact a floodplain zoning ordinance which restricts development in the hydraulic shadow of Structure Number 10 prior to any federal reimbursement for relocation expenses.

No significant adverse environmental impacts will result from installations.

Alternatives

The planned action is the most practical means of protecting the watershed, eliminating the threat to loss of life, and complying with the Wisconsin Department of Natural Resources requirements. The Sponsors considered the following alternatives:

(1) No Action

This alternative is not a viable option since the dam will not be in compliance with Wisconsin Department of Natural Resources (DNR) Dam Safety Administrative Code (NR 333). This is because the recent breach analysis has determined there are dwellings in the breach area. This alternative does not meet the project purpose of reducing risk of loss of life, maintaining flood control and maintaining watershed protection.

(2) Dam removal (decommissioning)

With this alternative, Mill Creek Structure 10 would be removed or modified in a safe and acceptable manner such that it would no longer function as originally intended. This alternative would greatly increase the risk to human life, property, roads and bridges due to flooding. This alternative does not meet the project purpose because it does not reduce the risk of loss of life and it does not maintain flood control or watershed protection. This alternative was opposed as documented in the scoping meeting, and therefore it was not considered further.

(3) Structural Upgrade

This alternative consists of raising the height of the dam, widening the auxiliary spillway, increasing the size of the principal spillway, adding a riser to provide sediment storage and treatment of the abutments to reduce water flow and risk of failure if geologic exploration of the site shows it is needed. This alternative would allow Mill Creek Structure 10 to meet current NRCS class “c” (high hazard) criteria for providing public health and safety and comply with Wisconsin Department of Natural Resources Dam Safety Administrative Code (NR 333). A floodplain zoning ordinance will be enacted to eliminate any future development in the floodplain.

(4) Structural and Non-structural Rehabilitation

This is the recommended action.

Consultation and Public Participation

Copies of the Plan Supplement have been sent out to the single point of contact for the State of Wisconsin, Wisconsin Department of Natural Resources, Wisconsin Department of Agriculture, Trade, and Consumer Protection, Wisconsin Department of Emergency Government, U.S. Fish and Wildlife Service, U.S. Forest Service, U.S. Environmental Protection Agency, U.S. Army Corps of Engineers, the Wisconsin State Clearinghouse, and the West Central Regional Planning Commission. The document was distributed to American Indian Tribes that have expressed interest in consulting with federal agencies in projects in Richland County.

A scoping meeting was advertised and held on December 10, 2001 and interdisciplinary efforts were used. In addition to the general public, One federal agency (NRCS), two state agencies (DNR, SHPO), and three county agencies (Land Conservation Department, County Zoning Office, County Administration Department), and local conservation organizations were invited to participate in the scoping and planning process.

Specific consultation was conducted with the State Historic Preservation Officer and the county historical society concerning cultural resources in the watershed.

The environmental assessment was transmitted to all participating and interested agencies, groups, and individuals for review and comment in September 15, 2002. Public meetings were held as needed to keep all interested parties informed of the study progress and to obtain public input to the plan and environmental evaluation.

Agency consultation and public participation to date have shown no unresolved conflicts with the implementation of the selected plan.

Conclusion

The Environmental Assessment summarized above indicates that this federal action will not cause significant local, regional, or national impacts on the environment. Therefore, based on the above findings, I have determined that an environmental impact statement for the Mill Creek Watershed Plan Supplement is not required.

Dated: December 9, 2002.
Don Baloun,
Acting State Conservationist.

[FR Doc. 02-32466 Filed 12-24-02; 8:45 am]

BILLING CODE 3410-16-P